DEPARTMENT OF ENERGY

Federal Energy Regulatory Commission

[Project No. 12731-002]

Natural Currents Energy Services, LLC; Notice of Intent To File License Application, Filing of Draft Application, Request for Waivers of Integrated Licensing Process Regulations Necessary for Expedited Processing of a Hydrokinetic Pilot Project License Application, and Soliciting Comments

May 15, 2009.

a. Type of Filing: Notice of Intent to File a License Application for an Original License for a Hydrokinetic Pilot Project.

b. Project No.: 12731-002.

c. Date Filed: May 15, 2009.

d. Submitted By: Natural Currents Energy Services, LLC.

e. Name of Project: Angoon Tidal Power Pilot Project.

f. Location: In Kootznahoo Inlet on the western shore of Admiralty Island, near the City of Angoon in the Skagway-Hoonah-Angoon Census Area of southeastern Alaska.

g. Filed Pursuant to: 18 CFR 5.3 of the Commission's regulations.

h. Applicant Contact: Roger Bason, President, Natural Currents Energy Services, 24 Roxanne Blvd., Highland, NY 12528; (845) 691-4008; info@naturalcurrents.com.

i. FERC Contact: Steve Hocking (502) 552-8753.

j. Natural Currents Energy Services, LLC (Natural Currents) has filed with the Commission: (1) A notice of intent (NOI) to file an application for an original license for a hydrokinetic pilot project and a draft license application with monitoring plans; (2) a proposed schedule; (3) a request to be designated as the non-Federal representative for section 7 of the Endangered Species Act consultation; and (4) a request to be designated as the non-Federal representative for section 106 consultation under the National Historic Preservation Act (collectively the pre-filing materials).

k. With this notice, we are soliciting comments on the pre-filing materials listed in paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (Angoon Tidal Power Pilot Project) and number (P-12731-002), and bear the heading “Comments on the proposed Angoon Tidal Power Pilot Project.” Any individual or entity interested in submitting comments on the pre-filing materials must do so by July 14, 2009.

Comments may be filed electronically via the Internet in lieu of paper. The Commission strongly encourages electronic filings. See 18 CFR 385.2001(a)(1)(iii) and the instructions on the Commission's Web site (http://www.ferc.gov) under the “e-filing” link.

l. With this notice, we are approving Natural Currents' request to be designated as the non-Federal representative for section 7 of the Endangered Species Act (ESA) and its request to initiate consultation under section 106 of the National Historic Preservation Act; and recommending that it begin informal consultation with: (a) The U.S. Fish and Wildlife Service and the National Marine Fisheries Service as required by section 7 of ESA; and (b) the Alaska State Historic Preservation Officer, as required by section 106, National Historical Preservation Act, and the implementing regulations of the Advisory Council on Historic Preservation at 36 CFR 800.2.

m. This notice does not constitute the Commission's approval of Natural Currents' request to use the Pilot Project Licensing Procedures. Upon its review of the project's overall characteristics relative to the pilot project criteria, the draft license application contents, and any comments filed, the Commission will determine whether there is adequate information to conclude the pre-filing process.

n. The proposed Angoon Tidal Power Pilot Project would consist of eight (8) 25-kw Red Hawk Tidal Turbines, with a combined maximum output of 200 kW for the pilot project. Initially, the turbines would be mounted on portable anchored barges to test different positions within the site for the best turbine performance. Following the location of the desired development site, tidal turbines will be mounted on constructed docks or piers secured to the solid, scoured, subsurface bedrock. The transmission intertie is to be determined. The estimated annual generation of the project would be 525,600 kilowatt-hours

o. A copy of the draft license application and all pre-filing materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659.

p. Pre-filing process schedule. The pre-filing process will be conducted pursuant to the following tentative schedule. Revisions to the schedule below may be made based on staff's review of the draft application and any comments received.

Milestone | Date
Comments on pre-filing materials due | July 14, 2009.
Issuance of meeting notice (if needed) | July 29, 2009.
Public meeting/technical conference (if needed) | August 28, 2009.
Issuance of notice concluding pre-filing process and ILP waiver request determination | August 13, 2009 (if no meeting is needed).
| September 14, 2009 (if meeting is needed).

q. Register online at http://ferc.gov/esubscribenow.htm to be notified via e-mail of new filing and issuances related to this or other pending projects. For assistance, contact FERC Online Support.

Kimberly D. Bose,
Secretary.

[FR Doc. E9-12080 Filed 5-22-09; 8:45 am]

BILLING CODE 6717-01-P